DEPARTMENT OF COMMERCE

Docket Number 110726425-1426-01

RIN 0625-XA13

Opportunity for U.S. Businessmen and Women To Train in the Russian Federation

AGENCY: International Trade Administration (ITA), U.S. Department of Commerce (DOC).

ACTION: Notice of training opportunity.

Authority: 22 U.S.C. 2395(b).

SUMMARY: In November 2010, U.S. Secretary of Commerce Gary Locke and Russian Minister of Economic Development Elvira Nabiullina signed a Memorandum of Understanding (MOU) outlining plans for the two countries to cooperate on a management training exchange program that will enable private sector managers from each country to gain practical experience working in the other country. Under the U.S.-Russia Management Training Exchange Program, early-career U.S. managers will travel to Russia for two weeks to learn about business issues in Russia. The Program is arranged by ITA's Special American Business Internship Training Program (SABIT) which has been assisting U.S. companies active in or entering emerging markets. The program in Russia will be implemented through the Federal Resource Center, an agency of the Ministry of Economic Development of the Russian Federation. The training program is scheduled to take place in the Sverdlovsk region.

DATES: The program will take place in late September 2011. The application is due by Friday, August 12, 2011.

ADDRESSES: Interested U.S. applicants should contact the U.S. Department of Commerce's SABIT Program for an application or download an application from SABIT's Web site at www.trade.gov/sabit.

FOR FURTHER INFORMATION CONTACT: Tracy M. Rollins, Director, SABIT Program, U.S. Department of Commerce, (202) 482-0073. This is not a toll-free number.

SUPPLEMENTARY INFORMATION: Since FY 1992, SABIT has provided management training in the United States to over 5,000 business executives from various regions of the world. To date, over 4,000 U.S. companies have hosted executives through the SABIT Program in sectors including agribusiness; defense conversion; product standards and quality control; energy; financial services; telecommunications; transportation; housing; environmental equipment and services; medical equipment and supplies; pharmaceuticals; and health care management.

Trainees for this program in Russia will be selected by the SABIT Program based on their fit with Russian host organizations, ability to utilize the knowledge gained during the program to further U.S.-Russian business development, and overall quality of the application submitted. Participants will be selected by SABIT program staff. Participants must be United States citizens and employed at the time of the program. The SABIT program will pay for the trainees' round-trip international and domestic airfare to the internship site in the Russian Federation, housing while the trainees are in the Russian Federation, and provide per diem and emergency medical insurance. Trainees will be responsible for Russian visa costs. Trainees will not need to speak Russian.

The application (OMB Number 0625-0225) is free-of-charge and voluntary. This collection of information contains Paperwork Reduction Act (PRA) requirements approved by the Office of Management and Budget (OMB). Notwithstanding any other provision of law, no person is required to respond to, nor shall a person be subject to a penalty for failure to comply with, a collection of information subject to the requirements of the PRA unless that collection of information displays a currently valid OMB Control Number. Public reporting burden for this collection of information is estimated to be 3 hours per response, including the time for reviewing instructions, searching existing data sources, gathering and maintaining the data needed, and completing and reviewing the collection of information. Persons wishing to comment on the burden estimate or any aspect of this collection of information, or offer suggestions for reducing this burden, should send their COMMENTS to the ITA Reports Clearance Officer, International Trade Administration, U.S., 1401 Constitution Avenue, NW., Washington, DC 20230.

Statutory Authority: This program is funded under Section 632(a) of the Foreign Assistance Act of 1961, as amended (the “FAA”), and the Department of State, Foreign Operations, and Related Programs Appropriations Act, 2010 (Pub. L. 111-117) to carry out the provisions of the FAA and the FREEDOM Support Act, as amended.

Dated July 29, 2011.
Tracy M. Rollins,
Director, SABIT Program, U.S. Department of Commerce.

[FR Doc. 2011-19783 Filed 8-3-11; 8:45 am]

BILLING CODE 3510-HE-P